DEPARTMENT OF ENERGY

Federal Energy Regulatory Commission

[Project No. 15386-000]

Stonega PSH, LLC; Notice of Preliminary Permit Application Accepted for Filing and Soliciting Comments, Motions To Intervene, and Competing Applications

On December 18, 2024, Stonega PSH, LLC, filed an application for a preliminary permit, pursuant to section 4(f) of the Federal Power Act (FPA), proposing to study the feasibility of the Stonega Energy Storage Project (Stonega Project or project) to be located in Wise County, Virginia. The sole purpose of a preliminary permit, if issued, is to grant the permit holder priority to file a license application during the permit term. A preliminary permit does not authorize the permit holder to perform any land-disturbing activities or otherwise enter upon lands or waters owned by others without the owners' express permission.

The proposed Stonega Project would consist of the following: (1) a new 2,700-foot-long, 132-foot-high roller compacted concrete or concrete-faced rockfill dam forming an upper reservoir having a surface area of 62 acres and a total storage capacity of approximately 5,100 acre-feet at a normal maximum water surface elevation of 3,427 feet North American Vertical Datum of 1988 (NAVD88); (2) a new 1,480-foot-long, 209-foot-high roller compacted concrete or concrete-faced rockfill dam forming a lower reservoir having a surface area of 70 acres and a total storage capacity of approximately 5,500 acre-feet at a normal maximum water surface elevation of 2,280 feet NAVD88; (3) a 23-foot-diameter, 5,460-foot-long concrete and steel-lined tunnel connecting the upper and lower reservoirs; (4) a new 300-foot-long, 90-foot-wide underground powerhouse containing three turbine-generator units with a total rated capacity of 650 megawatts; (5) a new 0.8-mile-long, 161-kilovolt transmission line connecting the project to a substation; and (6) appurtenant facilities. Initial fill and make-up water for the project would come from adjacent waterways and/or groundwater wells. The proposed project would have an annual generation of 1,800 gigawatt-hours.

Applicant Contact: Erik Steimle, Rye Development, LLC, 100 South Olive Avenue, West Palm Beach, FL 33401; phone: 503-998-0230.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

More information about this project, including a copy of the application, can be viewed or printed on the “eLibrary” link of the Commission's website at https://elibrary.ferc.gov/eLibrary/search. Enter the docket number (P-15386) in the docket number field to access the document. For assistance, contact FERC Online Support.

Dated: March 20, 2025.
Carlos D. Clay,
Deputy Secretary.

[FR Doc. 2025-05110 Filed 3-25-25; 8:45 am]

BILLING CODE 6717-01-P